DEPARTMENT OF ENERGY

Federal Energy Regulatory Commission

[Project Nos. 2593-031; 2823-020]

Algonquin Power (Beaver Falls), LLC; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project Nos.: 2593-031 and 2823-020.

c. Date filed: December 30, 2015.

d. Applicant: Algonquin Power (Beaver Falls), LLC.

e. Name of Projects: Upper Beaver Falls and Lower Beaver Falls projects.

f. Location: On the Beaver River, in the towns of Croghan and New Bremen, Lewis County, New York. The project does not occupy lands of the United States.

g. Filed Pursuant to: Federal Power Act 16 U.S.C. 791 (a)-825(r).

h. Applicant Contact: Robert A. Gates, Executive Vice President, Eagle Creek Renewable Energy, 65 Madison Avenue, Suite 500, Morristown, New Jersey 07960; (973) 998-8400; bob.gates@eaglecreekre.com.

i. FERC Contact: Andy Bernick, (202) 502-8660 or andrew.bernick@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: February 28, 2016.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket numbers P-2593-031 and P-2823-020.

m. The application is not ready for environmental analysis at this time.

n. The existing project works are as follows:

The Upper Beaver Falls Project consists of: (1) A 328-foot-long, 25-foot-high concrete gravity dam with an uncontrolled overflow spillway; (2) a 48-acre reservoir with a storage capacity of 800 acre-feet at elevation 799.4 feet North American Vertical Datum of 1988 (NAVD 88); (3) a 17-foot-high, 26.5-foot-wide, 27.5-foot-long intake structure with a steel trash rack; (4) a 90-foot-long, 16-foot-wide, 8-foot-high concrete penstock; (5) a powerhouse containing one turbine-generator with a nameplate rating of 1,500 kilowatts (kW); (6) a tailrace excavated in the riverbed; (7) a 2,120-foot-long, 2.4-kilovolt (kV) overhead transmission line connecting to an existing National Grid substation; and (8) other appurtenances. The project generates about 8,685 megawatt-hours (MWh) annually.

The Lower Beaver Falls Hydroelectric Project consists of: (1) A 400-foot-long concrete gravity dam with a maximum height of 14 feet, including: (i) A 240-foot-long non-overflow section containing an 8-foot-wide spillway topped with flashboards ranging from 6 to 8 inches in height and (ii) a 160-foot-long overflow section with an ice sluice opening; (2) a 4-acre reservoir with a storage capacity of 27.9 acre-feet at a normal elevation of 769.6 feet NAVD 88; (3) an intake structure with a steel trash rack, integral with a powerhouse containing two 500-kW turbine and generator units; (4) a tailrace; (5) a 250-foot-long, 2.4-kV transmission line connected to the Upper Beaver Falls powerhouse; and (6) appurtenant facilities. The project generates about 5,617 MWh annually.

The Lower Beaver Falls Project is located approximately 600 feet downstream of the Upper Beaver Falls Project. The dams and existing project facilities for both projects are owned by the applicant. The applicant proposes no new project facilities or operational changes, but proposes that both projects be combined under a single license.

o. A copy of the application is available for review at the Commission in the Public Reference Room or may be viewed on the Commission's Web site at http://www.ferc.gov using the “eLibrary” link. Enter one of the docket numbers excluding the last three digits in the docket number field to access the document. For assistance, please contact FERC Online Support at FERCOnlineSupport@ferc.gov, (866) 208-3676 (toll free), or (202) 502-8659 (TTY). A copy is also available for inspection and reproduction at the address in item (h) above.

You may also register online at http://www.ferc.gov/docs-filing/esubscription.asp to be notified via email of new filings and issuances related to these or other pending projects. For assistance, contact FERC Online Support.

p. Procedural Schedule: The application will be processed according to the following preliminary Hydro Licensing Schedule. Revisions to the schedule will be made as appropriate.

Issue Deficiency Letter (if necessary)—February 2016

Request Additional Information—February 2016

Issue Acceptance Letter—May 2016

Issue Scoping Document 1 for comments—May 2016

Request Additional Information (if necessary)—July 2016

Issue Scoping Document 2—September 2016

Issue notice of ready for environmental analysis—September 2016

Commission issues EA, draft EA, or draft EIS—March 2017

Comments on EA, draft EA, or draft EIS—April 2017

Commission issues final EA or EIS—June 2017

Final amendments to the application must be filed with the Commission no later than 30 days from the issuance date of the notice of ready for environmental analysis.

Dated: January 11, 2016.
Nathaniel J. Davis, Sr.,
Deputy Secretary.

[FR Doc. 2016-00707 Filed 1-14-16; 8:45 am]

BILLING CODE 6717-01-P